GENERAL SERVICES ADMINISTRATION

[OMB Control No. 3090-0286; Docket No. 2018-0001; Sequence No. 14]

Information Collections; GSA Mentor Protégé Program and Subcontracting Plans

AGENCY: Office of Acquisition Policy, General Services Administration (GSA).

ACTION: Notice of termination regarding an existing OMB clearance.

SUMMARY: Under the provisions of the Paperwork Reduction Act, the Regulatory Secretariat Division has submitted to the Office of Management and Budget (OMB) a request to terminate previously approved information collection requirements under OMB Control Number 3090-0286, GSA Mentor Protégé Program.

DATES: Submit comments on or before: February 25, 2019.

ADDRESSES: Submit comments for the information collections by any of the following methods:

• Regulations.gov: http://www.regulations.gov. Submit comments via the Federal eRulemaking portal by searching the OMB Control number 3090-0286 or 3090-0252. Select the link “Comment Now” that corresponds with “Information Collections; GSA Mentor Protégé Program.” Follow the instructions provided on the screen. Please include your name, company name (if any), and “Information Collection; GSA Mentor Protégé Program” on your attached document.

• Mail: General Services Administration, Regulatory Secretariat Division (MVCB), 1800 F Street NW, Washington, DC, 20405. ATTN: Ms. Mandell/IC 3090-0286.

Instructions: Please submit comments only and cite “Information Collections; GSA Mentor Protégé Program” in all correspondence related to this collection. All comments received will be posted without change to http://www.regulations.gov, including any personal and/or business confidential information provided.

FOR FURTHER INFORMATION CONTACT: Ms. Dana Bowman, General Services Acquisition Policy Division, GSA, by phone at 202-357-9652 or by email at dana.bowman@gsa.gov.

SUPPLEMENTARY INFORMATION: GSA no longer requires a GSA Mentor Protégé Program, as it is duplicative of the Small Business Administration (SBA) governmentwide mentor protégé program. Specifically, General Services Administration Acquisition Regulation (GSAR) Subpart 519.70, GSA Mentor-Protégé Program and associated clauses: 552.219-75, GSA Mentor-Protégé Program, and 552.219-76, Mentor Requirements and Evaluation have been removed.

Jeffrey A. Koses,
Senior Procurement Executive, Office of Acquisition Policy, Office of Government-wide Policy.

[FR Doc. 2018-27883 Filed 12-21-18; 8:45 am]

BILLING CODE 6820-61-P